SMALL BUSINESS ADMINISTRATION

[License No. 02/72-0634]

L Capital Partners SBIC, L.P.; Notice Seeking Exemption Under Section 312 of the Small Business Investment Act, Conflicts of Interest

Notice is hereby given that L Capital Partners SBIC, L.P., 10 East 53rd Street, 37th Floor, New York, New York 10022, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2002)). L Capital Partners SBIC, L.P. proposes to purchase preferred securities issued by Sceptor Industries, Inc., 8301 State Line Road, Suite 101, Kansas City, MO 64114 (“Sceptor”). The financing will enable Sceptor to expand its scope of licensed technology and intellectual property which will better position Sceptor to obtain growth capital.

The financing is brought within the purview of Sec. 107.730(a)(1) of the Regulations because Shalom Equity Fund Limited, an Associate of L Capital Partners SBIC, L.P. owns 42% of the existing and outstanding stock of Sceptor.

Therefore, this transaction is considered a financing of an Associate requiring prior SBA approval.

Notice is hereby given that any interested person may submit written comments on the transaction, within 15 days of the date of this publication, to the Associate Administrator for Investment, U.S. Small Business Administration, 409 Third Street, SW., Washington, DC 20416.

Dated: November 22, 2005.
Jaime Guzman-Fournier,
Associate Administrator, for Investment.

[FR Doc. E5-6633 Filed 11-28-05; 8:45 am]

BILLING CODE 8025-01-P